Title 3—

The President

Proclamation 10175 of April 5, 2021

National Public Health Week, 2021

By the President of the United States of America

A Proclamation

National Public Health Week has increased significance this year, as our Nation mourns the loss of more than half a million lives to COVID-19, and as we have come to recognize just how essential our public health efforts and public health workers truly are. Whether it is the scientists and researchers who developed life-saving vaccines in record time; or local leaders who have taken evidence-based action to keep their communities safe; or the staff and volunteers who have worked to slow the spread of the virus through testing, case investigation, and contact tracing; or the doctors, nurses, and clinicians who continue to provide around-the-clock care to those who have fallen ill, dedicated public health professionals on the front lines of our response to COVID-19 deserve our gratitude.

During National Public Health Week, we ask everyone to come together to help restore the health of our Nation. Every American can do their patriotic duty for their neighbors, their loved ones, and our country by continuing to wear masks as recommended by the Centers for Disease Control and Prevention, practicing physical distancing, getting the COVID-19 vaccine when it is their turn, and by expressing gratitude to public health professionals who are seeing us through this crisis and who are building a more robust, comprehensive, and equitable public health system for all.

While defeating the coronavirus is our top public health priority, our Nation must also focus on improving our overall health and wellbeing. Greater health is good for us all, and it will bolster our national resilience in the face of new and existing threats. The United States must prioritize and continually invest in our public health system to aggressively address health disparities that have been exposed and worsened by COVID-19. We must also address the environmental and climate factors—air and water pollution, extreme weather, and climate-related disaster events—that threaten public health in communities nationwide. The American Jobs Plan will help to achieve these goals, including by ensuring that children who live along highways and fence lines of industrial facilities will breathe easier because of significant investments in clean energy and infrastructure that promotes public health. Our Nation must also take commonsense steps to address the gun violence public health epidemic, including actions to counter the historic spike in homicides occurring in cities across the country and disproportionately affecting Black and brown Americans. Only by addressing the root causes of health inequity can we build a fairer, stronger, more dependable health system for all Americans.

My Administration is committed to investing in our public health system to not only defeat the pandemic, but also to build a stronger public health system that allows us to be ready for the next virus. The American Rescue Plan provides critical funding to increase the number of vaccination sites, which will help us get Americans vaccinated more quickly so that we can get back to our lives and loved ones. The law also invests in COVID-19 containment measures such as testing and contact tracing, funds our efforts to strengthen domestic supply chains for critical medical equipment, and makes health insurance more affordable and accessible for millions of Americans. Finally, the law invests in crucial measures like air quality monitoring, water and sewer infrastructure, and brownfield remediation so that Americans in every community can live in a healthy environment.

The American Rescue Plan does more than put checks in Americans' pockets—it provides assistance to help stabilize State, local, Tribal, and territorial budgets and keep vital public health services running. It provides the resources schools need to reopen safely, allowing students to return to the classroom and alleviating the negative health effects that come from isolation, changes in routines, and loss of learning. The American Rescue Plan will also mobilize a generation of future leaders to serve in an enhanced public health workforce, increasing our long-term public health capacity. This law also provides much-needed help to nearly 1,400 Community Health Centers that serve our most vulnerable populations, who are at the highest risk of infection and adverse outcomes from COVID-19.

As we continue working tirelessly to defeat the pandemic and build a stronger public health system for the future, I ask every American to mark National Public Health Week by remembering all those who give their time, expertise, and care—and even put their lives on the line—in service of a healthier, safer, and stronger America for all of us.

NOW, THEREFORE, I, JOSEPH R. BIDEN JR., President of the United States of America, by virtue of the authority vested in me by the Constitution and the laws of the United States, do hereby proclaim April 5 through April 11, 2021, as National Public Health Week. I call on all citizens, government agencies, private businesses, non-profit organizations, and other groups to join in activities and take action to improve the health of our Nation.

IN WITNESS WHEREOF, I have hereunto set my hand this fifth day of April, in the year of our Lord two thousand twenty-one, and of the Independence of the United States of America the two hundred and forty-fifth.

[FR Doc. 2021-07338

Filed 4-7-21; 8:45 am]

Billing code 3295-F1-P